DEPARTMENT OF COMMERCE

Bureau of Industry and Security

15 CFR Part 736

[Docket No. 040108007-4007-01]

RIN 0694-AC 99

General Order Implementing Syria Accountability and Lebanese Sovereignty Act of 2003

AGENCY: Bureau of Industry and Security, Commerce.

ACTION: Final rule.

SUMMARY: The Bureau of Industry and Security is amending the Export Administration Regulations (EAR) by adding new General Order No. 2 to Supplement No. 1, Part 736. Section 5(a)(1) of the Syria Accountability and Lebanese Sovereignty Act of 2003 (the SAA), requires a prohibition on the export to Syria of all items on the Commerce Control List (CCL). The SAA also requires that the President impose two or more of the six additional sanctions set forth in the SAA. One of the additional sanctions chosen by the President prohibits the export to Syria of products of the United States, other than food and medicine. This Order is issued consistent with Executive Order 13338 of May 11, 2004, which implements the SAA.

DATES: Effective Date: This rule is effective May 14, 2004.

ADDRESSES: Although there is no public comment period, written comments on this rule may be sent to Sheila Quarterman, Office of Exporter Services, Regulatory Policy Division, Bureau of Industry and Security, Department of Commerce, P.O. Box 273, Washington, DC 20044, or e-mail: squarter@bis.doc.gov.

FOR FURTHER INFORMATION CONTACT: Eileen Albanese, Director, Office of Exporter Services, Bureau of Industry and Security, Department of Commerce, P.O. Box 273, Washington, DC 20044, or Telephone: (202) 482-0436.

SUPPLEMENTARY INFORMATION:

Background

Section 5(a)(1) of the Syria Accountability and Lebanese Sovereignty Act of 2003 (Pub. L. 108-175, codified as a note to 22 U.S.C. 2151) (the SAA), requires a prohibition on the export to Syria of all items on the Commerce Control List (15 CFR 774) (CCL). The SAA also requires that the President impose two or more of the six additional sanctions set forth in sections 5(a)(2)(A)-(F). One of the additional sanctions chosen by the President and described in section 5(a)(2)(A) is a prohibition on the export to Syria of products of the United States, other than food and medicine. The President has also exercised national security waiver authority pursuant to section 5(b) of the SAA for certain transactions. This Order is issued consistent with Executive Order 13338 of May 11, 2004, which implements the SAA.

Pursuant to this General Order, exports and reexports of all items subject to the Export Administration Regulations (EAR) (15 CFR 730 et seq.), except food and medicine classified as EAR99 and “deemed export” and “deemed reexport” of EAR99 technology or source code, require a license to Syria (medicine is defined in part 772 of the EAR). All license applications for exports or reexports to Syria are subject to a general policy of denial, other than transactions described below.

BIS may consider, on a case-by-case basis, license applications for exports and reexports of items necessary to carry out the President's constitutional authority to conduct U.S. foreign affairs and as Commander-in-Chief, including those exports and reexports of items necessary for the performance of official functions by United States Government personnel abroad. Pursuant to the President's exercise of the national security waiver authority set forth in section 5(b) of the SAA, BIS may also consider the following license applications on a case-by-case basis: items in support of activities, diplomatic or otherwise, of the United States Government (to the extent that regulation of such exportation or reexportation would not fall within the President's constitutional authority to conduct the nation's foreign affairs); medicine (on the CCL) and medical devices (both as defined in part 772 of the EAR); parts and components intended to ensure the safety of civil aviation and the safe operation of commercial passenger aircraft; aircraft chartered by the Syrian Government for the transport of Syrian Government officials on official Syrian Government business; telecommunications equipment and associated computers, software and technology; and items in support of United Nations operations in Syria. The total dollar value of each approved license for aircraft parts for flight safety normally will be limited to no more than $2 million over the 24-month standard license term, except in the case of complete overhauls. In addition, consistent with part 734 of the EAR, the following are not subject to this General Order: informational materials in the form of books and other media; publicly available software and technology; and technology exported in the form of a patent application or an amendment, modification, or supplement thereto or a division thereof (see 15 CFR 734.3(b)(1)(v) and 734.3(b)(2) and (3)).

This General Order makes inapplicable for Syria all License Exceptions set forth in part 740 of the EAR, except as described below. Pursuant to the President's exercise of the national security waiver authority in section 5(b) of the SAA, the following License Exceptions, or portions thereof, are available: TMP (15 CFR 740.9(a)(2)(viii) only) for items for use by the news media; GOV (15 CFR 740.11(b)(2)(i) and (ii) only) for items for personal or official use by personnel and agencies of the U.S. Government; TSU (15 CFR 740.13(a), (b), and (c) only) for operation technology and software, sales technology and software updates; BAG (15 CFR 740.14) for exports of items by individuals leaving the United States as personal baggage; and AVS (15 CFR 740.15(a)(4) only) for the reexport of civil aircraft on temporary sojourn to Syria. Shotguns and shotgun shells described in 15 CFR 740.14(e) are not permitted to be exported to Syria under License Exception BAG.

This General Order also revokes the authority to export or reexport to Syria under existing licenses. However, exporters may submit new license applications for any transaction that they believe is eligible for case-by-case review based on this General Order. License conditions requiring written U.S. Government authorization for the reexport, transfer, or resale of items already exported or reexported remain in effect, and requests for BIS authorization to reexport, transfer, or sell such items will require interagency approval.

License applications for “deemed exports” and “deemed reexports” as described in 15 CFR 734.2(b) will be reviewed on a case-by-case basis. “Deemed exports” and “deemed reexports” involving or technology or source code subject to the EAR but not listed on the CCL do not require a license to Syrian foreign nationals.

Finally, items that are on dock for loading, on lighter, laden aboard an exporting carrier or en route aboard a carrier to a port of export on May 14, 2004, remain subject to the licensing rules applicable to such items as of May 13, 2004. Any such items not actually exported or reexported before midnight May 28, 2004, may be exported or reexported only if authorized pursuant to this General Order.

This rule has been determined to be economically significant under Executive Order 12866, because it meets the criterion of having $100 million or more in annual economic impact. In calendar year 2003, U.S. exports to Syria, excluding food and medicine, totaled approximately $140 million.

Rulemaking Requirements

1. This final rule has been determined to be economically significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule contains a collection of information subject to the requirements of the PRA. This collection has been approved by OMB under Control Number 0694-0088 (Multi-Purpose Application), which carries a burden hour estimate of 58 minutes to prepare and submit form BIS-748. Send comments regarding this burden estimate or any other aspect of this collection of information, including suggestions for reducing the burden, to David Rostker, Office of Management and Budget (OMB), by e-mail to David_Rostker@omb.eop.gov, or by fax to (202)395-7285; and to the Regulatory Policy Division, Bureau of Industry and Security, Department of Commerce, P.O. Box 273, Washington, DC 20044.

3. This rule does not contain policies with Federalism implications as that term is defined under Executive Order 13132.

4. The provisions of the Administrative Procedure Act (5 U.S.C. 553) requiring notice of proposed rulemaking, the opportunity for public participation, and a delay in effective date, are inapplicable because this regulation involves a military and foreign affairs function of the United States (Sec. 5 U.S.C. 553 (a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable. Therefore, this regulation is issued in final form. Although there is no public comment period, public comments on this regulation are welcome on a continuing basis. Comments should be submitted to Sheila Quarterman, Regulatory Policy Division, Bureau of Industry and Security, Department of Commerce, P.O. Box 273, Washington, DC 20044.

5. This rule has been determined to be major for purposes of the Congressional Review Act (5 U.S.C. 801 et seq.). However, pursuant to the Congressional Review Act (5 U.S.C. 808(2)), the Bureau of Industry and Security has determined that the delay in the effective date generally required by the Congressional Review Act is waived for good cause. In particular, the Bureau has determined that a delay is impracticable because a delay in effective date would allow for the shipment of goods during that delay that would be antithetical to the objective of this rule.

List of Subjects in 15 CFR Part 736

Exports, Foreign trade.

Accordingly, part 736 of the Export Administration Regulations (15 CFR parts 730-799) is amended as follows:

PART 736—[AMENDED]

1. The authority citation for part 736 is revised to read as follows:

Authority: 50 U.S.C. app. 2401 et seq.; 50 U.S.C. 1701 et seq.; 22 U.S.C. 2151 note; E.O. 12938, 59 FR 59099, 3 CFR, 1994 Comp., p. 950; E.O. 13020, 61 FR 54079, 3 CFR, 1996 Comp. p. 219; E.O. 13026, 61 FR 58767, 3 CFR, 1996 Comp., p. 228; E.O. 13222, 66 FR 44025, 3 CFR, 2001 Comp., p. 783; E.O. 13338 of May 11, 2004; Notice of August 7, 2003, 68 FR 47833, 3 CFR, 2003 Comp., p. 328; Notice of October 29, 2003, 68 FR 62209, 3 CFR, 2003 Comp., p. 347.

2. Supplement No. 1 to part 736 is amended by adding General Order No. 2 to read as follows:

Supplement No. 1 to Part 736—General Orders

* * * * *

General Order No. 2 of May 14, 2004; sections 5(a)(1) and 5(a)(2)(A) of the Syria Accountability and Lebanese Sovereignty Act of 2003 (Public Law 108-175, codified as a note to 22 U.S.C. 2151) (the SAA), require (1) a prohibition on the export to Syria of all items on the Commerce Control List (in 15 CFR part 774)(CCL) and (2) a prohibition on the export to Syria of products of the United States, other than food and medicine. The President has also exercised national security waiver authority pursuant to Section 5(b) of the SAA for certain transactions. This Order is issued consistent with Executive Order 13338 of May 11, 2004, which implements the SAA.

(a) License requirements. Effective May 14, 2004, a license is required for export or reexport to Syria of all items subject to the EAR, except food and medicine classified as EAR99 (medicine is defined in part 772 of the EAR). A license is required for the “deemed export” and “deemed reexport,” as described in § 734.2(b) of the EAR, of any technology or source code on the Commerce Control List (CCL) to a Syrian foreign national. “Deemed exports” and “deemed reexports” involving technology or source code subject to the EAR but not listed on the CCL do not require a license to Syrian foreign nationals.

(b) Revocation of Authority to Export under Existing Licenses. Effective May 14, 2004, the authority to export or reexport to Syria under existing licenses is hereby revoked (see savings clause in paragraph (e) of this General Order). License conditions requiring written U.S. Government authorization for the reexport, transfer, or resale of items already exported or reexported remain in effect, and requests for BIS authorization to reexport, transfer, or sell such items will require interagency approval.

(c) License Exceptions. Effective May 14, 2004, no License Exceptions to the license requirements set forth in paragraph (a) of this General Order are available for exports or reexports to Syria, except the following:

(1) TMP for items for use by the news media as set forth in § 740.9(a)(2)(viii) of the EAR,

(2) GOV for items for personal or official use by personnel and agencies of the U.S. Government as set forth in § 740.11(b)(2)(i) and (ii) of the EAR,

(3) TSU for operation technology and software, sales technology and software updates pursuant to the terms of § 740.13(a), (b), or (c) of the EAR,

(4) BAG for exports of items by individuals leaving the United States as personal baggage pursuant to the terms of § 740.14 (a) through (d) only of the EAR, and

(5) AVS for the temporary sojourn of civil aircraft reexported to Syria pursuant to the terms of § 740.15(a)(4) of the EAR.

(d) Licensing policy. All license applications for export or reexport to Syria are subject to a general policy of denial. License applications for “deemed exports” and “deemed reexports” of technology and source code will be reviewed on a case-by-case basis. BIS may consider, on a case-by-case basis, license applications for exports and reexports of items necessary to carry out the President's constitutional authority to conduct U.S. foreign affairs and as Commander-in-Chief, including those exports and reexports of items necessary for the performance of official functions by the United States Government personnel abroad. BIS may also consider the following license applications on a case-by-case basis: items in support of activities, diplomatic or otherwise, of the United States Government (to the extent that regulation of such exportation or reexportation would not fall within the President's constitutional authority to conduct the nation's foreign affairs); medicine (on the CCL) and medical devices (both as defined in part 772 of the EAR); parts and components intended to ensure the safety of civil aviation and the safe operation of commercial passenger aircraft; aircraft chartered by the Syrian Government for the transport of Syrian Government officials on official Syrian Government business; telecommunications equipment and associated computers, software and technology; and items in support of United Nations operations in Syria. The total dollar value of each approved license for aircraft parts for flight safety normally will be limited to no more than $2 million over the 24-month standard license term, except in the case of complete overhauls. In addition, consistent with part 734 of the EAR, the following are not subject to this General Order: informational materials in the form of books and other media; publicly available software and technology; and technology exported in the form of a patent application or an amendment, modification, or supplement thereto or a division thereof (see 15 CFR 734.3(b)(1)(v), (b)(2) and (b)(3)).

(e) Savings Clause. Items that are on dock for loading, on lighter, laden aboard an exporting carrier or en route aboard a carrier to a port of export on May 14, 2004, shall be subject to the licensing rules applicable to such items as of May 13, 2004. Any such items not actually exported or reexported before midnight May 28, 2004, may be exported or reexported only if authorized pursuant to this General Order.

* * * * *

Dated: May 11, 2004.
Peter Lichtenbaum,
Assistant Secretary for Export Administration.

[FR Doc. 04-11059 Filed 5-12-04; 10:14 am]

BILLING CODE 3510-33-P